DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EMSSAB), Idaho National Engineering and Environmental Laboratory. The Federal Advisory Committee Act (Pub. L. 92-463, 86 Stat. 770) requires that public notice of these meeting be announced in the Federal Register.

DATES: Tuesday, July 20, 2004, 8 a.m.-6 p.m. Wednesday, July 21, 2004, 8 a.m.-5 p.m.

Opportunities for public participation will be held Tuesday, July 20, from 12:15 to 12:30 and 5:30 to 5:45 p.m. and on Wednesday, July 21, from 11:45 a.m. to 12 noon and 3:55 to 4:10 p.m. Additional time may be made available for public comment during the presentations.

These times are subject to change as the meeting progresses, depending on the extent of comment offered. Please check with the meeting facilitator to confirm these times.

ADDRESSES: Ameritel Inn, 645 Lindsay Boulevard, Idaho Falls, ID 83402.

FOR FURTHER INFORMATION CONTACT: Ms. Peggy Hinman, INEEL CAB Administrator, North Wind, Inc., P.O. Box 51174, Idaho Falls, ID 83405, Phone (208) 557-7885, or visit the Board's Internet home page at http://www.ida.net/users/cab.

SUPPLEMENTARY INFORMATION: Purpose of the Board: The purpose of the Board is to make recommendations to DOE in the areas of environmental restoration, waste management, and related activities.

The Tentative Agenda Objectives include:

• To provide additional information to the new CAB members in support of providing an overall orientation, including:

—An overview of environmental regulation

—An overview of the types of wastes managed at the INEEL

—An overview of the historical contamination at INEEL and how it is being addressed

• To receive a status report on the Environmental Management Program at the INEEL.

• To receive a status report on the progress on the procurement process for new site contractors.

• To receive presentations related to the End States for the INEEL, including:

—An overview of the 1995 Comprehensive Facilities and Land Use Plan

—A status report on the Risk-Based End States Vision Document for the INEEL

• To discuss and develop a possible recommendation addressing End States for the INEEL.

• To receive a presentation on the status of efforts and plans for Pit 4, the final report on the Glovebox Excavator Method project, and the treatment of volatile organic compounds.

• To receive a presentation and to discuss a possible recommendation addressing the Engineering Evaluation and Cost Analysis for the CPP-603 Basins.

• To discuss future opportunities for public involvement in site cleanup decision-making.

Tentative Agenda for Tuesday, July 20

8 a.m. Welcome and Introductions.

8:45 a.m. Welcome to New Members.

9 a.m. Member and Committee Reports.

9:15 a.m. Break.

9:30 a.m. Environmental Management (EM) Program Status and Emerging Issues of Potential Interest to the INEEL CAB (TRA Catch Tank, Tank Farm Capping, Closure Plan for Tank 180, WIR Legal Situation, D&D at INTEC, Foster Wheeler Project).

10:50 a.m. Break.

11:05 a.m. Orientation to the Idaho National Engineering and Environmental (INEEL) Laboratory.

12:15 p.m. Public Participation.

12:30 p.m. Lunch.

1:30 p.m. Annual Work Plan.

1:55 p.m. Orientation to the INEEL (continued).

2:50 p.m. Break.

3:05 p.m. Orientation to the INEEL (continued).

4:15 p.m. Break.

5 p.m. End States for the INEEL.

5:30 p.m. Public Participation

5:45 p.m. Letter Regarding CAB Support Services

6 p.m. Adjourn.

Tentative Agenda for Wednesday, July 21

8 a.m. End States for the INEEL (continued).

9 a.m. Break.

9:15 a.m. End States for the INEEL (continued).

10:15 a.m. Break.

10:30 a.m. End States for the INEEL (continued).

11 a.m. Engineering Evaluation and Cost Analysis for CPP-603 Basins.

11:30 a.m. Member and Committee Reports.

11:45 a.m. Public Participation.

12 noon Lunch.

1 p.m. Procurement Process.

1:30 p.m. Pit 4/Glovebox Excavator Method Project/Volatile Organic Compound Treatment.

2:15 p.m. Break.

2:30 p.m. End States for the INEEL (continued).

3 p.m. Engineering Evaluation and Cost Analysis for CPP-603 Basins (continued).

3:40 p.m. Break.

3:55 p.m. Public Participation.

4:10 p.m. Board Work.

5 p.m. Adjourn.

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Richard Provencher, Assistant Manager for Environmental Management, Idaho Operations Office, U.S. Department of Energy, is empowered to conduct the meeting in a fashion that will facilitate the orderly conduct of business. Every individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Peggy Hinman, INEEL CAB Administrator, at the address and phone number listed above.

Issued in Washington, DC on June 21, 2004.
Carol A. Matthews,
Acting Deputy Advisory Committee Management Officer.

[FR Doc. 04-14612 Filed 6-25-04; 8:45 am]

BILLING CODE 6450-01-P